DEPARTMENT OF HOMELAND SECURITY

Coast Guard

[Docket No. USCG-2010-1130]

Notice of Cancellation of Public Meeting on the International Maritime Organization Guidelines for Exhaust Gas Cleaning Systems for Marine Engines To Comply With Annex VI to MARPOL 73/78

AGENCY: Coast Guard, DHS.

ACTION: Notice of Meeting cancellation.

SUMMARY: On December 29, 2010 (75 FR 82040), the United States Coast Guard announced that a public meeting on the International Maritime Organization guidelines for exhaust gas cleaning systems for marine engines would be held January 19 and 20, 2011 in Washington, DC. This meeting has been cancelled. A future meeting date on this topic may be scheduled and would be announced in the Federal Register.

DATES: The public meeting previously scheduled for January 19 and 20, 2011 is cancelled.

FOR FURTHER INFORMATION CONTACT: For additional information about this public meeting you may contact Mr. Wayne Lundy by telephone at 202-372-1379 or by e-mail at Wayne.M.Lundy@uscg.mil.

Dated: January 13, 2011.
F.J. Strum,
Acting Director of Commercial Regulations and Standards.

[FR Doc. 2011-1024 Filed 1-13-11; 4:15 pm]

BILLING CODE 9110-04-P